DEPARTMENT OF COMMERCE

Bureau of Economic Analysis

Proposal To collect Information on the Annual Survey of Foreign Direct Investment in the United States

ACTION: Proposed collection comment request.

SUMMARY: The Department of Commerce, as part of its continuing effort to reduce paperwork and respondent burden, invites the general public and other Federal agencies to comment on proposed and/or continuing information collections, as authorized by the Paperwork Reduction Act of 1995, Public Law 104-13 (44 U.S.C. 3506(c)(2)(A)).

DATES: Written comments must be submitted on or before 5 p.m., August 7, 2006.

ADDRESSES: Direct all written comments to Diana Hynek, Departmental Paperwork Clearance Officer, Department of Commerce, Room 6625, 14th and Constitution Avenue, NW., Washington, DC 20230 (or e-mail dHynek@doc.gov).

FOR FURTHER INFORMATION CONTACT: Obie G. Whitchard, Chief, International Investment Division, (BE-50), Bureau of Economic Analysis, U.S. Department of Commerce, Washington, DC 20230; phone (202) 606-9890 (or e-mail obie.whichard@bea.gov).

SUPPLEMENTARY INFORMATION:

I. Abstract

The Annual Survey of Foreign Direct Investment in the United States (Form BE-15) obtains sample data on the financial structure and operations of nonbank U.S. affiliates of foreign investors. The data are needed to provide reliable, useful, and timely measures of foreign direct investment in the United States, assess its impact on the U.S. economy, and based upon this assessment, make informed policy decisions regarding foreign direct investment in the United States. The data are used to derive annual estimates of the operations of U.S. affiliates of foreign investors, including their balance sheets; income statements; property, plant, and equipment; external financing; employment and employee compensation; merchandise trade; sales of goods and services; taxes; and research and development activity. In addition, data covering employment and property, plant, and equipment are collected by state. The data are also used to update similar data for the universe of U.S. affiliates collected once every five years on the BE-12 benchmark survey.

BEA proposes the following changes to the survey, beginning with the survey for 2006: (1) Add a question to the BE- 15 EZ, short form, and long form to identify the accounting principles used to compile and report the survey data. (2) Modify the question on the BE-15 long form that collects information on the major industrial activity of the U.S. affiliate to include all of the affiliate's major activities; currently, information on only one major activity is collected. (3) Include a check box on the BE-15 Supplement C to determine if a U.S. affiliate is claiming an exemption based on a merger or on a consolidation; currently, a single check box covers both mergers and consolidations. (4) Clarify certain instructions, add illustrative diagrams, and modify formatting in an effort to make the survey forms more clear and easier to complete. Taken together, these changes will not affect the overall respondent burden for the survey.

II. Method of Collection

The BE-15 annual survey is sent to potential respondents at the end of March each year. A completed report covering a reporting company's fiscal year ending during the previous calendar year is due by May 31. Reports must be filed by every nonbank U.S. business enterprise that is owned 10 percent or more by a foreign investor and that has total assets, sales, or net income (or loss) of over $30 million. Potential respondents are those nonbank U.S. business enterprises that reported in the 2002 benchmark survey of foreign direct investment in the United States, along with nonbank businesses that subsequently entered the direct investment universe. The BE-15 is a sample survey, as described; universe estimates are developed from the reported sample data.

III. Data

OMB Number: 0608-0034.

Form Number: BE-15.

Type of Review: Regular submission.

Affected Public: Businesses or other for-profit organizations.

Estimated Number of Respondents: 4,950.

Estimated Time per Response: 21.8 hours.

Estimated Total Annual Burden: 107,900 hours.

Estimated Total Annual Cost: $4,316,000 (based on an estimated reporting burden of 107,900 hours and an estimated hourly cost of $40).

IV. Requests for Comments

Comments are invited on: (1) Whether the proposed collection of information is necessary for the proper performance of the functions of the agency, including whether the information will have practical utility; (b) the accuracy of the agency's estimate of the burden (including hours and costs) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 1, 2006.
Madeleine Clayton,
Management Analyst, Office of the Chief Information Officer.

[FR Doc. 06-5138 Filed 6-5-06; 8:45 am]

BILLING CODE 3510-06-M